FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 19, 2019.

A. Federal Reserve Bank of Atlanta (Kathryn Haney, Assistant Vice President) 1000 Peachtree Street NE, Atlanta, Georgia 30309. Comments can also be sent electronically to Applications.Comments@atl.frb.org:

1. The Wade Family Partnership, Ltd. (“Partnership”), Carrollton, Alabama; William Oliver Kirk, Jr., individually and as general partner of the Partnership, Carrollton, Alabama; Geraldon Campbell Wade, Tuscaloosa, Alabama; the Andrew C. Wade Non-GST Exempt Marital Trust, Andrew C. Wade GST Exempt Marital Trust, and Andrew C. Wade GST Exempt Family Trust (collectively, the “Trusts”), each of Birmingham, Alabama; Argent Trust Company, as trustee of the Trusts; Carol Wade McKinzey, individually and as trustee of the Trusts, Aliceville, Alabama; Andrew Cox Wade Jr., individually and as trustee of the Trusts, Tuscaloosa, Alabama; Donna Wade Cornelius, individually and as trustee of the Trusts, Tuscaloosa, Alabama; Mary Wade Price, Wiggins, Mississippi; John Jeffery Campbell, Gordo, Alabama; Carole Lamb Campbell, Gordo, Alabama; William Pate Wade, Tuscaloosa, Alabama; Andrew Cox Wade, III, Tuscaloosa, Alabama; Mary Ashley Wade, Tuscaloosa, Alabama; Caroline McKinzey Wright, Tuscaloosa, Alabama; and Jeffrey Kirk Cornelius, Jr., Tuscaloosa, Alabama; to retain voting shares of West Alabama Capital Corp. and thereby indirectly retain shares of West Alabama Bank & Trust, both of Reform, Alabama.

B. Federal Reserve Bank of Kansas City (Dennis Denney, Assistant Vice President) 1 Memorial Drive, Kansas City, Missouri 64198-0001:

1. Ryan G. Tessendorf, Columbus, Nebraska; and Wendy K. Matthews, Bemidji, Minnesota; as a group acting in concert, to acquire voting shares of Bellwood Community Holding Company and thereby indirectly acquire shares of Bank of the Valley, both of Bellwood, Nebraska.

Board of Governors of the Federal Reserve System, August 30, 2019.
Yao-Chin Chao,
Assistant Secretary of the Board.

[FR Doc. 2019-19160 Filed 9-4-19; 8:45 am]

BILLING CODE P